DEPARTMENT OF TRANSPORTATION

Federal Aviation Administration

14 CFR Part 71

[Docket No. FAA-2024-2114; Airspace Docket No. 24-AGL-19]

RIN 2120-AA66

Amendment of Class E Airspace; Marysville, OH

AGENCY: Federal Aviation Administration (FAA), DOT.

ACTION: Final rule.

SUMMARY: This action amends the Class E airspace at Marysville, OH. This action is the result of an airspace review conducted due to the decommissioning of the Marysville nondirectional beacon (NDB). The geographic coordinates are being corrected due to a typographical error and updated to coincide with the FAA's aeronautical database. This action brings the airspace into compliance with FAA orders and supports instrument flight rule (IFR) procedures and operations.

DATES: Effective 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Rebecca Shelby, Federal Aviation Administration, Operations Support Group, Central Service Center, 10101 Hillwood Parkway, Fort Worth, TX 76177; telephone (817) 222-5857.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E airspace extending upward from 700 feet above the surface at Union County Airport, Marysville, OH to support IFR operations at this airport.

History

The FAA published an NPRM for Docket No. FAA-2024-2114 in the Federal Register (90 FR 8920; February 4, 2025) proposing to amend the Class E airspace at Marysville, OH. Interested parties were invited to participate in this rulemaking effort by submitting written comments on the proposal to the FAA. Three (3) comments were received:

1. Carson Benedict stated: “Extending the Marysville (Union County) class echo airspace will provide greater coverage for pilots (FAA,2025). This is beneficial for IFR pilots as Union County has two RNAV approaches, so the expansion of the airspace would offer pilots under IFR plans additional protection. This extension also protects those pilots who are transitioning from the airport to NAVIDS, such as a VOR or GPS waypoint (Martin, 2023). Along with this action, the decommissioning of the Marysville NDB is a much-needed process as the aviation industry leads the world in modernized navigation utilizing GPS and similar navigation sources. As a pilot training for my instrument rating, GPS approaches are considered more accurate than any other approach, making this extension in controlled airspace especially valuable for IFR pilots.”

2. Spencer Raver states: “The amendment to the Class E airspace surrounding Marysville, OH, is crucial due to the discontinuation of the Marysville NDB. The western extension of class E airspace provides a smooth transition to and from en route flight for aviators operating under instrument flight rules.” The commenter further stated that, with removal of NDBs expected to be removed from the NAS, this “calls for an expansion of airspace around airports like KMRT, who are losing their local NDB, to accommodate local traffic that would otherwise be using the NDB's approach procedure.”

“Furthermore, the expansion of the airspace may attract more pilots operating under instrument flight rules due to the added efficiency to enter and exit the airport, meaning there would be more traffic to the airport. If this influx of traffic is to occur, there may be issues with the adjacent airports of KDLZ and KOSU to the east and southeast with their departing and arriving traffic, especially during MVFR and IFR conditions when visibility and clouds are low.”

3. Hayden Damrow submitted a comment that was unrelated to the proposal. FAA notes the two comments in support of the proposal as well as extraneous information submitted that does not substantively bear upon the proposal.

Incorporation by Reference

Class E airspace designations are published in paragraph 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document. FAA Order JO 7400.11J lists Class A, B, C, D, and E airspace areas, air traffic service routes, and reporting points.

The Rule

This amendment to 14 CFR part 71 modifies the Class E airspace extending upward from 700 feet above the surface to within a 6.7-mile (increased from a 6.3-mile) radius of Union County Airport, Marysville, OH; removes the Marysville NDB and associated extension from the legal descriptions; adds an extension 2 miles each side of the 263° bearing from the airport extending from the 6.7-mile radius of the airport to 9.8 miles west of the airport; removes exclusionary language as it is no longer required; and removes the city associated with the airport in the airspace legal description to comply with changes to FAA Order JO 7400.2P, Procedures for Handling Airspace Matters; and updates the typographical error in the geographic coordinates to (lat 40°13′28″N) vs (lat 40°13′2847″N), of the airport to coincide with the FAA's aeronautical database.

This action is the result of an airspace review conducted as part of the decommissioning of the Marysville NDB and to support IFR operations at this airport.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6005 Class E Airspace Areas Extending Upward From 700 Feet or More Above the Surface of the Earth.

* * * * *

AGL OH E5 Marysville, OH [Amended]

Union County Airport, OH

(Lat. 40°13′28″ N, long. 83°21′06″ W)

That airspace extending upward from 700 feet above the surface within a 6.7-mile radius of Union County Airport; and within 2 miles each side of the 263°bearing from the airport extending from the 6.7-mile radius to 9.8 miles west of the airport.

* * * * *

Issued in Fort Worth, Texas, on April 11, 2025.
Wayne L. Eckenrode,
Acting Manager, Operations Support Group, ATO Central Service Center.

[FR Doc. 2025-06457 Filed 4-15-25; 8:45 am]

BILLING CODE 4910-13-P